DEPARTMENT OF AGRICULTURE

Animal and Plant Health Inspection Service

7 CFR Part 319

[Docket No. 03-016-1]

Cut Flowers From Countries With Chrysanthemum White Rust

AGENCY: Animal and Plant Health Inspection Service, USDA.

ACTION: Proposed rule.

SUMMARY: We are proposing to amend the cut flowers regulations to establish specific requirements for the importation of cut flowers that are hosts of chrysanthemum white rust (CWR) from countries where the disease is known to occur. We are also proposing to amend the nursery stock regulations to update lists of countries where CWR is known to occur. We are proposing these changes in order to make our cut flowers and nursery stock regulations consistent. This action is necessary because of numerous recent findings of CWR on cut flowers from Europe that pose a risk of introducing CWR in the United States.

DATES: We will consider all comments that we receive on or before September 6, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 03-016-1, Regulatory Analysis and Development, PPD, APHIS, Station 3C71, 4700 River Road Unit 118, Riverdale, MD 20737-1238. Please state that your comment refers to Docket No. 03-016-1.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Ms. Sharon Porsche, Import Specialist, Commodity Import Analysis and Operation, PPQ, APHIS, 4700 River Road Unit 133, Riverdale, MD 20737-1231; (301) 734-5281.

SUPPLEMENTARY INFORMATION:

Background

The regulations in 7 CFR part 319 prohibit or restrict the importation of plants, plant parts, and related materials to prevent the introduction of plant pests and noxious weeds into the United States. The regulations in “Subpart-Nursery Stock, Plants, Roots, Bulbs, Seeds, and Other Plant Products,” §§ 319.37 through 319.37-14 (referred to below as the nursery stock regulations) restrict, among other things, the importation of living plants, plant parts, and seeds for propagation. Conditions governing the importation of cut flowers into the United States are contained in “Subpart—Cut Flowers” (§§ 319.74-1 through 319.74-4, referred to below as the cut flowers regulations).

Puccinia horiana Henn., a filamentous fungus and obligate parasite, is the causal agent of chrysanthemum white rust (CWR). CWR is a serious disease in nurseries, where it may cause complete loss of glasshouse chrysanthemum crops. The disease is indigenous to Japan, where it was noted in 1895, and it remained confined to China and Japan until 1963. However, since 1964, P. horiana has spread rapidly on infected imported cuttings and is now established in Europe, Africa, Australia, Central America, South America, and the Far East.

CWR is not established in the United States and is a regulated pest for the United States. This disease has the potential to be extremely damaging to the commercial horticulture and florist industries if it becomes established in greenhouses within the United States. Section 319.37-2 of the nursery stock regulations prohibits the importation of CWR-susceptible plant species from countries where the disease is established.

CWR was detected and eradicated in California in 1991; since then, there have been repeated incidents of CWR in several coastal California counties. There were also CWR outbreaks in commercial nurseries in New Jersey, Oregon, and Washington between 1995 and 1997 and in dooryard or hobbyist plantings in New York and New Jersey in 1997. Whenever CWR has been detected in the United States, it has been eradicated through immediate and cooperative action by Federal and State officials.

Plants for planting as well as cut flowers that are hosts can be a pathway for the introduction of CWR. Detections of CWR on cut flowers from Mexico and Venezuela, countries where the disease occurs, prompted APHIS to place administrative restrictions on cut flowers of CWR hosts from those countries because, in many cases, those cut flowers had been determined to be the pathway for the incursion of CWR into the United States. These restrictions are: (1) Cut flowers that are hosts of CWR are prohibited entry from Venezuela, (2) cut flowers that are hosts of CWR from Mexico are allowed entry into the United States if they are accompanied by a phytosanitary certificate issued by Mexico's national plant protection organization with an additional declaration that the shipment originated from an approved grower. The boxes and/or paperwork accompanying a shipment from Mexico must also be marked or stamped with the name of the approved grower.

Numerous findings of CWR on cut flowers from the Netherlands in 2003 prompted us to place administrative restrictions on certain cut flowers from the Netherlands also. These restrictions require cut flowers that are hosts of CWR from the Netherlands be allowed entry into the United States if they are accompanied by a phytosanitary certificate issued by the Netherlands. This certificate must contain an additional declaration stating that the place of production as well as the consignment have been inspected and found free of Puccinia horiana.

Because of these findings from the Netherlands and the risk of introducing CWR posed from other countries where the disease is known to occur, we are proposing to establish new entry requirements for cut chrysanthemums from all regions where CWR is known to occur.

Studies have shown that the following flowers are hosts of CWR (the studies cited are footnoted at the end of the table):

Accepted name of susceptible species | Synonyms | Common name
Chrysanthemum arcticum L.¹ | Arctanthemum arcticum (L.) Tzvelev and Dendranthema arcticum (L.) Tzvelev | Arctic chrysanthemum and arctic daisy.
Chrysanthemum boreale (Makino) Makino¹,² | Chrysanthemum indicum L. var. boreale Makino and Dendranthema boreale (Makino) Ling ex Kitam
Chrysanthemum indicum L.¹,²,³ | Dendranthema indicum (L.) Des Moul
Chrysanthemum japonense Nakai¹,² | Dendranthema japonense (Nakai) Kitam. and Dendranthema occidentali-japonense Kitam | Nojigiku.
Chrysanthemum japonicum Makino¹,² | Chrysanthemum makinoi Matsum. & Nakai and Dendranthema japonicum (Makino) Kitam | Ryuno-giku.
Chrysanthemum ×morifolium Ramat.²,⁴ | Anthemis grandiflorum Ramat., Anthemis stipulacea Moench, Chrysanthemum sinense Sabine ex Sweet, Chrysanthemum stipulaceum (Moench) W. Wight, Dendranthema ×grandiflorum (Ramat.) Kitam., Dendranthema ×morifolium (Ramat.) Tzvelev, and Matricaria morifolia Ramat | Florist's chrysanthemum, chrysanthemum, and mum.
Chrysanthemum pacificum Nakai¹ | Ajania pacifica (Nakai) K. Bremer & Humphries and Dendranthema pacificum (Nakai) Kitam | Iso-giku.
Chrysanthemum shiwogiku Kitam¹ | Ajania shiwogiku (Kitam.) K. Bremer & Humphries and Dendranthema shiwogiku (Kitam.) Kitam | Shio-giku.
Chrysanthemum yoshinaganthum Makino ex Kitam² | Dendranthema yoshinaganthum (Makino ex Kitam.) Kitam
Chrysanthemum zawadskii and Herbich subsp. yezoense (Maek.) Y. N. Lee¹ | Chrysanthemum arcticum subsp. maekawanum Kitam, Chrysanthemum arcticum var. yezoense Maek. [basionym], Chrysanthemum yezoense Maek. [basionym], Dendranthema yezoense (F. Maek.) D. J. N. Hind, and Leucanthemum yezoense (Maek.) Á Löve & D. Löve
Chrysanthemum zawadskii and Herbich subsp. zawadskii ¹ | Chrysanthemum sibiricum Turca. ex DC., nom. inval., Dendranthema zawadskii (Herbich) Tzvelev, and Dendranthema zawadskii var. zawadskii
Leucanthemella serotina (L.) Tzvelev ³ | Chrysanthemum serotinum L., Chrysanthemum uliginosum (Waldst. & Kit. ex Willd.) Pers., and Pyrethrum uliginosum (Waldst. & Kit. ex Willd.) | Giant daisy or high daisy.
Nipponanthemum nipponicum (Franch. ex Maxim) Kitam ² | Chrysanthemum nipponicum (Franch. ex Maxim.) Matsum. and Leucanthemum nipponicum Franch. ex Maxim | Nippon daisy or Nippon-chrysanthemum.
¹ Water, J.K. “Chrysanthemum White Rust,” EPPO Bulletin, No. 11, pp. 239-242 (1981).
² Hiratsuka, N. “Three species of Chrysanthemum rust in Japan and its neighboring districts,” Sydowia, Series 2, Supplement 1, pp. 34-44 (1957).
³ Dickens, J.K. kl., “The resistance of various cultivars and species of chrysanthemum to white rust (Puccinia horiana Henn.),” Plant Pathol, No. 17, pp. 19-22 (1968).
⁴ Yamada, S., “Experiments on the epidemiology and control of chrysanthemum white rust caused by Puccinia horiana,” Annals of the Phytopathological Society of Japan, No. 20, pp. 148-154 (1956).

We are proposing to amend the cut flowers regulations to establish specific production and certification requirements that cut flowers of these types would have to meet in order to be eligible for importation from a region where CWR is known to occur. According to the information available to us,¹,² CWR is known to occur in the following regions: The countries of Andorra, Argentina, Australia, Belarus, Bosnia and Herzegovina, Brazil, Brunei, Bulgaria, Canary Islands, Chile, China, Colombia, Croatia, Hungary, Iceland, Japan, Korea, Latvia, Liechtenstein, Lithuania, Macedonia, Malaysia, Mexico, Moldova, Monaco, New Zealand, Peru, Poland, Republic of South Africa, Romania, Russia, San Marino, Slovakia, Slovenia, Switzerland, Taiwan, Thailand, Tunisia, Uruguay, Venezuela, Yugoslavia; the European Union (Austria, Belgium, Denmark, Finland, France, Germany, Greece, Ireland, Italy, Luxembourg, Netherlands, Portugal, Spain, Sweden, and United Kingdom); and all countries, territories, and possessions of countries located in part or entirely between 90° and 180° East longitude.

¹ CAB International Crop Protection Compendium, 2003 Edition.

² Pests not known to occur in the United States or of limited distribution, No. 57: Chrysanthemum white rust, prepared by K. Whittle, Biological Assessment Support Staff, PPQ, APHIS.

We propose to require that all production sites in the regions where CWR is known to occur be registered with the national plant protection organization of the country in which the production site is located, and that the national plant protection organization present APHIS with a list of registered production sites. Production sites would be subject to inspections to verify the absence of Puccinia horiana, therefore we would require that APHIS-authorized inspectors and NPPO inspectors be granted access to all production sites and other areas necessary to monitor them.

We would also require that cut flowers that are hosts to CWR and imported from any of the countries where the disease is known to occur be accompanied by a phytosanitary certificate issued by the national plant protection organization of the country of origin. The certificate would have to contain an additional declaration stating that the place of production as well as the consignment have been inspected and found free of Puccinia horiana. In addition, we would require that box labels and documents accompanying each shipment identify the registered production site. Cut flowers not meeting these requirements would be refused entry into the United States.

In addition, if any shipment of cut flowers is found to be infested with CWR upon arrival to the United States, we would prohibit imports from the originating production site until such time as APHIS and the national plant protection organization of the exporting country can agree that the eradication measures taken have been effective and the pest risk within the production site has been eliminated.

We believe that these proposed measures are necessary because of numerous recent findings of CWR on cut flowers from Europe. Currently, the administrative procedures for importing cut flowers vary, depending on the originating country. These proposed measures are being applied administratively to cut flowers imported from Mexico and the Netherlands and have proved effective in preventing the introduction of CWR by cut flowers imported from these countries. Therefore, we are proposing to add these mitigation measures to the regulations for all regions where CWR is known to exist.

This action would dispel the possible appearance of disparity in mitigation measures for different countries by consolidating all requirements for cut flowers imported from countries where CWR is known to occur. This action would also remove the current administrative prohibition on the importation of cut flowers that are hosts to CWR from Venezuela, provided they meet the import requirements discussed in the previous paragraphs.

In addition to the changes discussed above, we would amend the entries for Chrysanthemum spp. and Dendranthema spp. in the table in § 319.37-2(a) of the nursery stock regulations to update the list of CWR-affected countries found in each of those entries so that they match the list of regions we would establish in the cut flowers regulations. This change would ensure consistency in our regulations.

Executive Order 12866 and Regulatory Flexibility Act

This proposed rule has been reviewed under Executive Order 12866. The rule has been determined to be not significant for the purposes of Executive Order 12866 and, therefore, has not been reviewed by the Office of Management and Budget.

We are proposing to amend the cut flowers regulations to establish specific requirements for the importation of cut flowers that are hosts of CWR from countries where the disease is known to occur. We are also proposing to amend the nursery stock regulations to update lists of countries where CWR is known to occur. This action is necessary because of numerous recent findings of CWR on cut flowers from Europe that pose a risk of introducing CWR in the United States.

In 2002, U.S. floriculture and nursery crop sales were close to $14 billion based on growers' receipts. Chrysanthemums were among the most profitable flowers for their growers. Total U.S. sales of chrysanthemums were estimated at $182.4 million in 2002. Of this amount, $78.1 million were attributed to florists' cut chrysanthemums and the remaining $104.3 million to potted (i.e., hardy) chrysanthemums. Chrysanthemums were not only one of the top four garden plants in terms of sales in 2002, they were also the garden plants with the second fastest price gains since 1995.³

³ Floriculture and Nursery Crops Outlook/ Electronic Outlook Report from the Economic Research Service/ FLO-1/ September 12, 2002/Alberto Jerardo.

In 2002, 11 percent ($63 million) of the money spent on imported cut flowers was for chrysanthemums. About 76 percent of the cut flowers imported into the United States originate in countries where, based on interceptions by U.S. inspectors, CWR exists.

APHIS has prepared a national management plan which describes procedures in the event a nursery in the United States is infected with CWR. The plan calls for the nursery to be placed into quarantine status. If there are very few infected chrysanthemum plants, the grower has the option to use a fungicide to control the disease or to destroy the crop by incineration. However, no plant should leave the nursery for 8 weeks or until the nursery has been inspected and certified as being free from CWR. In addition to these containment measures, the plan calls for an inspection of every chrysanthemum grower and every residence within a quarter mile to be inspected for CWR.⁴

⁴ Rizvi, Anwar S., Roeland Elliston, and Philip Bell, “Chrysanthemum White Rust: A National Management Plan for Exclusion and Eradication”, June 2002.

The fungicides most often recommended to fight the fungus Puccinia horiana Henn., which causes CWR, are Myclobutanil, Metam sodium, Dazomet, Chloropicrin, and methyl bromide. The cost of fungicide application varies, depending upon the plant size and number of leaves. A study by the National Agricultural Pesticide Impact Assessment Program and the University of California estimated the cost of different chemical treatments per acre of ornamental/nursery plants infected with fungus diseases, including CWR, by State. For field-grown nursery plants, all acreage was treated with fungicides. The treatment entailed spraying the flower plants with metam sodium, which costs $550 per acre, and then applying an herbicide at $200 per acre, totaling $750 per acre. For greenhouse plants, the treatment costs to fight CWR or any other fungus are higher.⁵

⁵ Exotic Pests and Diseases: Biology, Economics, Public Policy, 1999. Published by the Agricultural Issues Center. University of California at Davis: pp. 76-86.

In 1994, a property in California was quarantined after it was found to have chrysanthemums infected with CWR. The State followed with a survey around the affected residential area and found 70 more properties in the area with infected chrysanthemums. It cost $32,000, about $500 per residence, to eradicate the disease. A second survey by the State conducted 8 weeks following the first treatment process found very few remaining infected properties. However, the quarantine lasted much longer the second time and the average cost per property reached $7,000.⁶

⁶ See footnote 5.

In 1995, chrysanthemum growers in San Diego County, CA, spent, on average, $5,000 per business establishment to fight a CWR infestation. The infestation was eradicated quickly and followed by an 8-week host-free period. However, the cost reached $100,000 for one greenhouse that experienced repeated infestations and remained quarantined for 10 months. Between 1992 and 1997, direct and indirect losses from CWR infestations to chrysanthemum growers in Santa Barbara County, CA, were approximately $2 million. The county reported an annual value of chrysanthemum production of more than $10 million in 1997.⁷

⁷ See footnote 5.

Potential Effects

The economic effects that could result from the proposed changes in the regulations are expected to be small for U.S. importers of cut chrysanthemums. The cost of the phytosanitary certification would be borne by the exporters, who may pass those costs on to U.S. importers. The expected benefit from the proposed change in import requirements for cut flowers from all CWR-affected countries is the protection of U.S. floriculture and nursery crop industries and the people they employ. In 2002, these two industries contributed $14 billion in sales revenue to the U.S. economy.

Potential Effects on Small Entities

The Regulatory Flexibility Act requires that agencies specifically consider the economic effects their rules on small entities. The Small Business Administration has established the size standards based on the North American Industry Classification System (NAICS) for determining which economic entities meet the definition of a small firm. The small entity size standard for nursery and tree production (NAICS code 111421) is $750,000 or less in annual receipts. A total of 1,691 floriculture operations out of 10,965 operations had sales of $500,000 or more. Thus, at least 85 percent of all floriculture operations can be classified as small entities, and it is likely that an even higher percentage can be classified as small entities due to the $250,000 discrepancy.⁸

⁸ National Agricultural Statistics Service, Agricultural Statistics Board, U.S. Department of Agriculture, 2001 Floriculture Crops.

This proposed rule would continue to allow imports of cut chrysanthemums from CWR-affected countries, as long as the exporters from these countries comply with the proposed import requirements. We do not know the cost of certification in these countries compared to the average value of imported consignments of chrysanthemums, but it is expected to be minor. We do not expect that small entities in the U.S. floriculture industry will be significantly affected. However, the proposed requirements would help safeguard the U.S. floriculture and nursery industries from additional introductions of CWR.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. 03-016-1. Please send a copy of your comments to: (1) Docket No. 03-016-1, Regulatory Analysis and Development, PPD, APHIS, Station 3C71, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

We are proposing to amend the cut flowers regulations to establish specific requirements for the importation of cut flowers that are hosts of CWR from countries where the disease is known to occur. We are also proposing to amend the nursery stock regulations to update lists of countries where CWR is known to occur. We are proposing these changes in order to make our regulations consistent. This action is necessary because of numerous recent findings of CWR on cut flowers from Europe that pose a risk of introducing CWR in the United States.

We are proposing to require that each shipment of cut flowers must be accompanied by a phytosanitary certificate issued by the national plant protection organization of the country of origin that contains an additional declaration stating that the place of production as well as the consignment have been inspected and found free of Puccinia horiana.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.2294914 hours per response.

Respondents: Foreign national plant protection organizations.

Estimated annual number of respondents: 43,722.

Estimated annual number of responses per respondent: 8.1428571.

Estimated annual number of responses: 356,022.

Estimated total annual burden on respondents: 81,704 hours. (Due to averaging, the total annual burden hours may not equal the product of the annual number of responses multiplied by the reporting burden per response.)

Copies of this information collection can be obtained from Mrs. Celeste Sickles, APHIS’ Information Collection Coordinator, at (301) 734-7477.

Government Paperwork Elimination Act Compliance

The Animal and Plant Health Inspection Service is committed to compliance with the Government Paperwork Elimination Act (GPEA), which requires Government agencies in general to provide the public the option of submitting information or transacting business electronically to the maximum extent possible. For information pertinent to GPEA compliance related to this proposed rule, please contact Mrs. Celeste Sickles, APHIS’ Information Collection Coordinator, at (301) 734-7477.

List of Subjects in 7 CFR Part 319

Coffee, Cotton, Fruits, Honey, Imports, Logs, Nursery stock, Plant diseases and pests, Quarantine, Reporting and recordkeeping requirements, Rice, Vegetables

Accordingly, we propose to amend 7 CFR part 319 as follows:

PART 319—FOREIGN QUARANTINE NOTICES

1. The authority citation for part 319 would continue to read as follows:

Authority: 7 U.S.C. 450 and 7701-7772; 21 U.S.C. 136 and 136a; 7 CFR 2.22, 2.80, and 371.3

2. In the table in § 319.37-2(a), the entries for “Chrysanthemum spp. (chrysanthemum)” and “Dendranthema spp. (chrysanthemum)” would be revised to read as follows:

§ 319.37-2 Prohibited articles.

(a) * * *

Prohibited article (includes seeds only if specifically mentioned) | Foreign places from which prohibited | Plant pests existing in the places named and capable of being transported with the prohibited article
* * * * * * *
Chrysanthemum spp. (chrysanthemum) | Andorra, Argentina, Australia, Belarus, Bosnia and Herzegovina, Brazil, Brunei, Bulgaria, Canary Islands, Chile, China, Colombia, Croatia, Hungary, Iceland, Japan, Korea, Latvia, Liechtenstein, Lithuania, Macedonia, Malaysia, Mexico, Moldova, Monaco, New Zealand, Peru, Poland, Republic of South Africa, Romania, Russia, San Marino, Slovakia, Slovenia, Switzerland, Taiwan, Thailand, Tunisia, Uruguay, Venezuela, Yugoslavia; the European Union (Austria, Belgium, Denmark, Finland, France, Germany, Greece, Ireland, Italy, Luxembourg, Netherlands, Portugal, Spain, Sweden, and United Kingdom); and all countries, territories, and possessions of countries located in part or entirely between 90° and 180° East longitude | Puccinia horiana P. Henn. (white rust of chrysanthemum).
* * * * * * *
Dendranthema spp. (chrysanthemum) | Andorra, Argentina, Australia, Belarus, Bosnia and Herzegovina, Brazil, Brunei, Bulgaria, Canary Islands, Chile, China, Colombia, Croatia, Hungary, Iceland, Japan, Korea, Latvia, Liechtenstein, Lithuania, Macedonia, Malaysia, Mexico, Moldova, Monaco, New Zealand, Peru, Poland, Republic of South Africa, Romania, Russia, San Marino, Slovakia, Slovenia, Switzerland, Taiwan, Thailand, Tunisia, Uruguay, Venezuela, Yugoslavia; the European Union (Austria, Belgium, Denmark, Finland, France, Germany, Greece, Ireland, Italy, Luxembourg, Netherlands, Portugal, Spain, Sweden, and United Kingdom); and all countries, territories, and possessions of countries located in part or entirely between 90° and 180° East longitude | Puccinia horiana P. Henn. (white rust of chrysanthemum).
* * * * * * *

* * * * *

3. In § 319.74-2, paragraph (d) would be redesignated as paragraph (e) and a new paragraph (d) would be added to read as follows:

§ 319.74-2 Conditions governing the entry of cut flowers.

* * * * *

(d) Chrysanthemum white rust hosts. (1) The following Chrysanthemum, Leucanthemella, and Nipponanthemum spp. are considered to be hosts of chrysanthemum white rust:

Accepted name of susceptible species | Synonyms | Common name
Chrysanthemum arcticum L. | Arctanthemum arcticum (L.) Tzvelev and Dendranthema arcticum (L.) Tzvelev | Arctic chrysanthemum and arctic daisy.
Chrysanthemum boreale (Makino) Makino | Chrysanthemum indicum L. var. boreale Makino and Dendranthema boreale (Makino) Ling ex Kitam
Chrysanthemum indicum L. | Dendranthema indicum (L.) Des Moul
Chrysanthemum japonense Nakai | Dendranthema japonense (Nakai) Kitam and Dendranthema occidentali-japonense Kitam | Nojigiku.
Chrysanthemum japonicum Makino | Chrysanthemum makinoi Matsum. & Nakai and Dendranthema japonicum (Makino) Kitam | Ryuno-giku.
Chrysanthemum × morifolium Ramat | Anthemis grandiflorum Ramat., Anthemis stipulacea Moench, Chrysanthemum sinense Sabine ex Sweet, Chrysanthemum stipulaceum (Moench) W. Wight, Dendranthema × grandiflorum (Ramat.) Kitam., Dendranthema × morifolium (Ramat.) Tzvelev, and Matricaria morifolia Ramat | Florist's chrysanthemum, chrysanthemum, and mum.
Chrysanthemum pacificum Nakai | Ajania pacifica (Nakai) K. Bremer & Humphries and Dendranthema pacificum (Nakai) Kitam | Iso-giku.
Chrysanthemum shiwogiku Kitam | Ajania shiwogiku (Kitam.) K. Bremer & Humphries and Dendranthema shiwogiku (Kitam.) Kitam | Shio-giku.
Chrysanthemum yoshinaganthum Makino ex Kitam | Dendranthema yoshinaganthum (Makino ex Kitam.) Kitam
Chrysanthemum zawadskii and Herbich subsp. yezoense (Maek.) Y. N. Lee | Chrysanthemum arcticum subsp. maekawanum Kitam, Chrysanthemum arcticum var. yezoense Maek. [basionym], Chrysanthemum yezoense Maek. [basionym], Dendranthema yezoense (F. Maek.) D. J. N. Hind, and Leucanthemum yezoense (Maek.) Á. Löve & D. Löve
Chrysanthemum zawadskii and Herbich subsp. zawadskii | Chrysanthemum sibiricum Turcz. ex DC., nom. inval., Dendranthema zawadskii (Herbich) Tzvelev, and Dendranthema zawadskii var. zawadskii
Leucanthemella serotina (L.) Tzvelev | Chrysanthemum serotinum L., Chrysanthemum uliginosum (Waldst. & Kit. ex Willd.) Pers., and Pyrethrum uliginosum (Waldst. & Kit. ex Willd.) | Giant daisy or high daisy.
Nipponanthemum nipponicum (Franch. ex Maxim.) Kitam | Chrysanthemum nipponicum (Franch. ex Maxim.) Matsum. and Leucanthemum nipponicum Franch. ex Maxim | Nippon daisy or Nippon-chrysanthemum.

(2) Chrysanthemum white rust is considered to exist in the following regions: Andorra, Argentina, Australia, Belarus, Bosnia and Herzegovina, Brazil, Brunei, Bulgaria, Canary Islands, Chile, China, Colombia, Croatia, Cyprus, Hungary, Iceland, Japan, Korea, Latvia, Liechtenstein, Lithuania, Macedonia, Malaysia, Mexico, Moldova, Monaco, New Zealand, Norway, Peru, Poland, Republic of South Africa, Romania, Russia, San Marino, Slovakia, Slovenia, Switzerland, Taiwan, Thailand, Tunisia, Ukraine, Uruguay, Venezuela, Yugoslavia; the European Union (Austria, Belgium, Denmark, Finland, France, Germany, Greece, Ireland, Italy, Luxembourg, Netherlands, Portugal, Spain, Sweden, and United Kingdom); and all countries, territories, and possessions of countries located in part or entirely between 90° and 180° East longitude.

(3) Cut flowers of any species listed in paragraph (d)(1) of this section may be imported into the United States from any region listed in paragraph (d)(2) of this section only under the following conditions:

(i) The flowers must be grown in a production site that is registered with the national plant protection organization of the country in which the production site is located and the national plant protection organization must provide a list of registered sites to APHIS.

(ii) Each shipment of cut flowers must be accompanied by a phytosanitary certificate issued by the national plant protection organization of the country of origin that contains an additional declaration stating that the place of production as well as the consignment have been inspected and found free of Puccinia horiana.

(iii) Box labels and other documents accompanying shipments of cut flowers must be marked with the identity of the registered production site.

(iv) APHIS-authorized inspectors must also be allowed access to production sites and other areas necessary to monitor the chrysanthemum white rust-free status of the production sites.

(4) Cut flowers not meeting these conditions will be refused entry into the United States. The detection of chrysanthemum white rust in a shipment of cut flowers from a registered production site upon arrival in the United States will result in the prohibition of imports originating from the production site until such time when APHIS and the national plant protection organization of the exporting country can agree that the eradication measures taken have been effective and that the pest risk within the production site has been eliminated.

* * * * *

Done in Washington, DC, this 30th day of June 2005.
Elizabeth E. Gaston,
Acting Administrator, Animal and Plant Health Inspection Service.

[FR Doc. 05-13313 Filed 7-6-05; 8:45 am]

BILLING CODE 3410-34-P